FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center Web site at http://www.ffiec.gov/nic/.

Unless otherwise noted, comments regarding each of these applications must be received at the Reserve Bank indicated or the offices of the Board of Governors not later than July 7, 2006.

A. Federal Reserve Bank of Atlanta (Andre Anderson, Vice President) 1000 Peachtree Street, NE., Atlanta, Georgia 30309:

1. Adam Bank Group, Inc., Ocala, Florida; to become a bank holding company by acquiring at least 89 percent of the voting shares of American Commerce Bank, Tampa, Florida.

2. Security Bank Corporation, Macon, Georgia; to acquire 100 percent of the voting shares of SBKC Interim Bank, Suwanee, Georgia.

In connection with this application, SBKC Interim Bank will merge with Homestead Bank, Suwanee, Georgia, and will operate under the name of Security Bank of Gwinnett County.

3. Sequatchie Valley Bancshares, Inc., Dunlap, Tennessee; to merge with FN Bancorp, Inc., Tullahoma, Tennessee, and thereby indirectly acquire voting shares of First National Bank of Tullahoma, Tullahoma, Tennessee.

B. Federal Reserve Bank of Chicago (Patrick M. Wilder, Assistant Vice President) 230 South LaSalle Street, Chicago, Illinois 60690-1414:

1. MB Financial, Inc., Chicago, Illinois; to merge with First Oak Brook Bancshares, Inc., Oak Brook, Illinois; and thereby indirectly acquire voting shares of Oak Brook Bank, Oak Brook, Illinois.

C. Federal Reserve Bank of Kansas City (Donna J. Ward, Assistant Vice President) 925 Grand Avenue, Kansas City, Missouri 64198-0001:

1. United Bancorporation of Wyoming, Inc., Jackson, Wyoming, to acquire 100 percent of the voting shares of United Bank of Idaho, Driggs, Idaho, a de novo bank.

D. Federal Reserve Bank of St. Louis (Glenda Wilson, Community Affairs Officer) 411 Locust Street, St. Louis, Missouri 63166-2034:

1. Friendship Bancshares, Inc., Meta, Missouri; to acquire 7.47 percent of the voting shares of Branson Bancshares, Inc., Branson, Missouri, and thereby indirectly acquire voting shares of Branson Bank, Branson, Missouri.

Board of Governors of the Federal Reserve System, June 8, 2006.
Robert deV. Frierson,
Deputy Secretary of the Board.

[FR Doc. E6-9197 Filed 6-12-06; 8:45 am]

BILLING CODE 6210-01-S